ENVIRONMENTAL PROTECTION AGENCY

40 CFR Parts 9 and 721

[EPA-HQ-OPPT-2018-0650; FRL-10001-94]

RIN 2070-AB27

Significant New Use Rules on Certain Chemical Substances (18-3)

AGENCY: Environmental Protection Agency (EPA).

ACTION: Final rule.

SUMMARY: EPA is issuing significant new use rules (SNURs) under the Toxic Substances Control Act (TSCA) for certain chemical substances that are the subject of premanufacture notices (PMNs) and Orders issued by EPA under TSCA. This final rule requires persons who intend to manufacture (defined by statute to include import) or process any of these chemical substances for an activity that is designated as a significant new use by this rule to notify EPA at least 90 days before commencing that activity. Persons may not commence manufacture or processing for the significant new use until EPA has conducted a review of the notice, made an appropriate determination on the notice, and has taken such actions as are required by that determination.

DATES: This rule is effective on March 9, 2020. For purposes of judicial review, this rule shall be promulgated at 1 p.m. (e.s.t.) on January 23, 2020.

FOR FURTHER INFORMATION CONTACT: For technical information contact: Kenneth Moss, Chemical Control Division (7405M), Office of Pollution Prevention and Toxics, Environmental Protection Agency, 1200 Pennsylvania Ave. NW, Washington, DC 20460-0001; telephone number: (202) 564-9232; email address: moss.kenneth@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

You may be potentially affected by this action if you manufacture, process, or use the chemical substances contained in this rule. The following list of North American Industrial Classification System (NAICS) codes is not intended to be exhaustive, but rather provides a guide to help readers determine whether this document applies to them. Potentially affected entities may include:

• Manufacturers or processors of one or more subject chemical substances (NAICS codes 325 and 324110), e.g., chemical manufacturing and petroleum refineries.

This action may also affect certain entities through pre-existing import certification and export notification rules under TSCA. Chemical importers are subject to the TSCA section 13 (15 U.S.C. 2612) import certification requirements promulgated at 19 CFR 12.118 through 12.127 and 19 CFR 127.28. Chemical importers must certify that the shipment of the chemical substance complies with all applicable rules and Orders under TSCA. Importers of chemicals subject to these SNURs must certify compliance with the SNUR requirements. The EPA policy in support of import certification appears at 40 CFR part 707, subpart B. In addition, any persons who export or intend to export a chemical substance that is the subject of this rule on or after February 10, 2020 are subject to the export notification provisions of TSCA section 12(b) (15 U.S.C. 2611(b)) (see 40 CFR 721.20), and must comply with the export notification requirements in 40 CFR part 707, subpart D.

B. How can I access the docket?

The docket includes information considered by the Agency in developing the proposed and final rules. The docket for this action, identified by the docket identification (ID) number listed at the top of this document, is available at http://www.regulations.gov or at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. Background

A. What action is the agency taking?

EPA is finalizing SNURs under TSCA section 5(a)(2) for the chemical substances identified in Unit V. These SNURs require persons who intend to manufacture or process any of these chemical substances for an activity that is designated as a significant new use to notify EPA at least 90 days before commencing that activity.

In the Federal Register of November 15, 2018 (83 FR 57634) (FRL-9985-22), EPA proposed SNURs for these chemical substances be added to 40 CFR part 721, subpart E. More information on the specific chemical substances subject to this final rule can be found in the Federal Register documents for the proposed SNUR. The record for these SNURs, established under docket ID number EPA-HQ-OPPT-2018-0650, includes information considered by the Agency in developing the proposed and final rules, public comments submitted for the proposed rule, and EPA's responses to public comments received.

B. What is the Agency's authority for taking this action?

TSCA section 5(a)(2) of TSCA (15 U.S.C. 2604(a)(2)) authorizes EPA to determine that a use of a chemical substance is a “significant new use.” EPA must make this determination by rule after considering all relevant factors, including the four TSCA section 5(a)(2) factors listed in Unit III. Once EPA determines that a use of a chemical substance is a significant new use, TSCA section 5(a)(1)(B) requires persons to submit a significant new use notice (SNUN) to EPA at least 90 days before they manufacture or process the chemical substance for that use (15 U.S.C. 2604(a)(1)(B)(i)). TSCA furthermore prohibits such manufacturing or processing from commencing until EPA has conducted a review of the notice, made an appropriate determination, and taken such actions as are required in association with that determination (15 U.S.C. 2604(a)(1)(B)(ii)). In the case of a determination other than not likely to present unreasonable risk, the applicable review period must also expire before manufacturing or processing for the new use may commence.

C. Applicability of General Provisions

General provisions for SNURs appear in 40 CFR part 721, subpart A. These provisions describe persons subject to the rule, recordkeeping requirements, exemptions to reporting requirements, and applicability of the rule to uses occurring before the effective date of the rule. Provisions relating to user fees appear at 40 CFR part 700. According to 40 CFR 721.1(c), persons subject to these SNURs must comply with the same SNUN requirements and EPA regulatory procedures as submitters of PMNs under TSCA section 5(a)(1)(A). These requirements include the information submission requirements of TSCA sections 5(b) and 5(d)(1), the exemptions authorized by TSCA sections 5(h)(1), (h)(2), (h)(3), and (h)(5), and the regulations at 40 CFR part 720. Once EPA receives a SNUN, EPA must either determine that the use is not likely to present an unreasonable risk of injury under the conditions of use for the chemical substance or take such regulatory action as is associated with an alternative determination before the manufacture or processing for the significant new use can commence. In the case of a determination other than not likely to present unreasonable risk, the applicable review period must also expire before manufacturing or processing for the new use may commence. If EPA determines that the use is not likely to present an unreasonable risk, EPA is required under TSCA section 5(g) to make public, and submit for publication in the Federal Register, a statement of EPA's findings.

III. Significant New Use Determination

When the Agency issues an Order under TSCA section 5(e), section 5(f)(4) requires that the Agency consider whether to promulgate a SNUR for any use not conforming to the restrictions of the Order or publish a statement describing the reasons for not initiating the rulemaking. TSCA section 5(a)(2) states that EPA's determination that a use of a chemical substance is a significant new use must be made after consideration of all relevant factors, including:

• The projected volume of manufacturing and processing of a chemical substance.

• The extent to which a use changes the type or form of exposure of human beings or the environment to a chemical substance.

• The extent to which a use increases the magnitude and duration of exposure of human beings or the environment to a chemical substance.

• The reasonably anticipated manner and methods of manufacturing, processing, distribution in commerce, and disposal of a chemical substance.

In determining what would constitute a significant new use for the chemical substances that are the subject of these SNURs, EPA considered relevant information about the toxicity of the chemical substances, likely human exposures and environmental releases associated with possible uses, and the four TSCA section 5(a)(2) factors listed in this unit.

IV. Public Comments on Proposed Rule and EPA Responses

EPA received public comments on the proposed rule from four identifying entities. The Agency's responses are described in a separate Response to Public Comments document contained in the docket for this rule, EPA-HQ-OPPT-2018-0650. EPA is finalizing the SNURs as proposed in this rule.

V. Substances Subject to This Rule

EPA is establishing significant new use and recordkeeping requirements in 40 CFR part 721, subpart E, for the chemical substances identified in this unit. In Unit IV. of the proposed rule published on November 15, 2018 (83 FR 57634) (FRL-9985-22), EPA provides the following information for each chemical substance:

• PMN number.

• Chemical name (generic name, if the specific name is claimed as CBI).

• Chemical Abstracts Service (CAS) Registry number (if assigned for non-confidential chemical identities).

• Basis for the TSCA section 5(e) Order.

• Potentially Useful Information. This is information identified by EPA that would help characterize the potential health and/or environmental effects of the chemical substance in support of a request by the PMN submitter to modify the Order, or if a manufacturer or processor is considering submitting a SNUN for a significant new use designated by the SNUR.

• CFR citation assigned in the regulatory text section of this rule.

The regulatory text section of each rule specifies the activities designated as significant new uses. Certain new uses, including exceedance of production volume limits (i.e., limits on manufacture volume) and other uses designated in this rule, may be claimed as CBI. Unit IX. discusses a procedure companies may use to ascertain whether a proposed use constitutes a significant new use.

These chemical substances are the subject of PMNs and Orders issued by EPA under TSCA section 5(e)(1)(A)(ii)(I), where EPA determined that activities associated with the PMN substances may present unreasonable risk to human health or the environment. The SNURs identify as significant new uses any manufacturing, processing, use, distribution in commerce, or disposal that does not conform to the restrictions imposed by the underlying TSCA Orders, consistent with TSCA section 5(f)(4).

Where EPA determined that the PMN substance may present an unreasonable risk of injury to human health via inhalation exposure, the underlying TSCA section 5(e) Order usually requires that potentially exposed employees wear specified respirators unless actual measurements of the workplace air show that air-borne concentrations of the PMN substance are below the New Chemical Exposure Limit (NCEL). The comprehensive NCELs provisions in TSCA section 5(e) Orders include requirements addressing performance criteria for sampling and analytical methods, periodic monitoring, respiratory protection, and recordkeeping. No comparable NCEL provisions currently exist in 40 CFR part 721, subpart B, for SNURs. Therefore, for these cases, the individual SNURs in 40 CFR part 721, subpart E, will state that persons subject to the SNUR who wish to pursue NCELs as an alternative to the § 721.63 respirator requirements may request to do so under § 721.30. EPA expects that persons whose § 721.30 requests to use the NCELs approach for SNURs that are approved by EPA will be required to comply with NCELs provisions that are comparable to those contained in the corresponding TSCA section 5(e) Order.

VI. Rationale and Objectives of the Rule

A. Rationale

During review of the PMNs submitted for the chemical substances that are subject to these SNURs, EPA concluded that regulation was warranted under TSCA section 5(e), pending the development of information sufficient to make reasoned evaluations of the health or environmental effects of the chemical substances. The basis for such findings is outlined in Unit IV. Based on these findings, TSCA section 5(e) Orders requiring the use of appropriate exposure controls were negotiated with the PMN submitters. As a general matter, EPA believes it is necessary to follow TSCA section 5(e) Orders with a SNUR that identifies the absence of those protective measures as Significant New Uses to ensure that all manufacturers and processors—not just the original submitter—are held to the same standard.

B. Objectives

EPA is issuing these SNURs because the Agency wants:

• To identify as significant new uses any manufacturing, processing, use, distribution in commerce, or disposal that does not conform to the restrictions imposed by the underlying Orders, consistent with TSCA section 5(f)(4).

• To receive notice of any person's intent to manufacture or process a listed chemical substance for the described significant new use before that activity begins.

• To have an opportunity to review and evaluate data submitted in a SNUN before the notice submitter begins manufacturing or processing a listed chemical substance for the described significant new use.

• To be able to either determine that the prospective manufacture or processing is not likely to present an unreasonable risk, or to take necessary regulatory action associated with any other determination, before the described significant new use of the chemical substance occurs.

Issuance of a SNUR for a chemical substance does not signify that the chemical substance is listed on the TSCA Chemical Substance Inventory (TSCA Inventory). Guidance on how to determine if a chemical substance is on the TSCA Inventory is available on the internet at http://www.epa.gov/opptintr/existingchemicals/pubs/tscainventory/index.html.

VII. Applicability of the Significant New Use Designation

To establish a significant new use, EPA must determine that the use is not ongoing. The chemical substances subject to this rule have undergone premanufacture review. In cases where EPA has not received a notice of commencement (NOC) and the chemical substance has not been added to the TSCA Inventory, no person may commence such activities without first submitting a PMN. Therefore, for chemical substances for which an NOC has not been submitted EPA concludes that the designated significant new uses are not ongoing.

When chemical substances identified in this rule are added to the TSCA Inventory, EPA recognizes that, before the rule is effective, other persons might engage in a use that has been identified as a significant new use. However, TSCA section 5(e) Orders have been issued for all the chemical substances, and the PMN submitters are prohibited by the TSCA section 5(e) Orders from undertaking activities which will be designated as significant new uses. The identities of 41 of the 67 chemical substances subject to this rule have been claimed as confidential. Based on this, the Agency believes that it is highly unlikely that any of the significant new uses described in the regulatory text of this rule are ongoing.

Furthermore, EPA designated November 15, 2018 (the date of public release of the proposed rule) as the cutoff date for determining whether the new use is ongoing. The objective of EPA's approach has been to ensure that a person could not defeat a SNUR by initiating a significant new use before the effective date of the final rule.

In the unlikely event that a person began commercial manufacture or processing of the chemical substances for a significant new use identified as of November 15, 2018, that person will have to cease any such activity upon the effective date of the final rule. To resume their activities, these persons will have to first comply with all applicable SNUR notification requirements and wait until EPA has conducted a review of the notice, made an appropriate determination on the notice, and has taken such actions as are required with that determination.

VIII. Development and Submission of Information

EPA recognizes that TSCA section 5 does not require developing any particular new information (e.g., generating test data) before submission of a SNUN. There is an exception: If a person is required to submit information for a chemical substance pursuant to a rule, Order or consent agreement under TSCA section 4 (15 U.S.C. 2603), then TSCA section 5(b)(1)(A) (15 U.S.C. 2604(b)(1)(A)) requires such information to be submitted to EPA at the time of submission of the SNUN.

In the absence of a rule, Order, or consent agreement under TSCA section 4 covering the chemical substance, persons are required only to submit information in their possession or control and to describe any other information known to or reasonably ascertainable (40 CFR 720.50). However, upon review of PMNs and SNUNs, the Agency has the authority to require appropriate testing, under 40 CFR part 721, subpart E. Unit IV. of the proposed rule (83 FR 57634; November 15, 2018) lists potentially useful information to EPA's evaluation. Companies who are considering submitting a SNUN are encouraged, but not required, to develop the information on the substance, which may assist with EPA's analysis of the SNUN. EPA strongly encourages persons, before performing any testing, to consult with the Agency. Furthermore, pursuant to TSCA section 4(h), which pertains to reduction of testing on vertebrate animals, EPA encourages consultation with the Agency on the use of alternative test methods and strategies (also called New Approach Methodologies, or NAMs), if available, to generate the recommended test data. EPA encourages dialog with Agency representatives to help determine how best the submitter can meet both the data needs and the objective of TSCA section 4(h).

In some of the TSCA section 5(e) Orders for the chemical substances regulated under this rule, EPA has established production volume limits. These limits cannot be exceeded unless the PMN submitter submits the results of specified tests. The SNURs contain the same production volume limits as the TSCA section 5(e) Orders. Exceeding these production limits is defined as a significant new use. Persons who intend to exceed the production limit must notify the Agency by submitting a SNUN at least 90 days in advance of commencement of non-exempt commercial manufacture or processing.

Any request by EPA for the triggered and pended testing described in the Orders was made based on EPA's consideration of available screening-level data, if any, as well as other available information on appropriate testing for the PMN substances. Further, any such testing request on the part of EPA that includes testing on vertebrates was made after consideration of available toxicity information, computational toxicology and bioinformatics, and high-throughput screening methods and their prediction models.

The potentially useful information identified in Unit IV. of the proposed rule may not be the only means of addressing the potential risks of the chemical substance. However, submitting a SNUN without any test data or other information may increase the likelihood that EPA will take action under TSCA section 5(e) or 5(f). EPA recommends that potential SNUN submitters contact EPA early enough so that they will be able to conduct the appropriate tests.

SNUN submitters should provide detailed information on the following:

• Human exposure and environmental release that may result from the significant new use of the chemical substances.

• Information on risks posed by the chemical substances compared to risks posed by potential substitutes.

IX. Procedural Determinations

By this rule, EPA is establishing certain significant new uses which have been claimed as CBI subject to Agency confidentiality regulations at 40 CFR part 2 and 40 CFR part 720, subpart E. Absent a final determination or other disposition of the confidentiality claim under 40 CFR part 2 procedures, EPA is required to keep this information confidential. EPA promulgated a procedure to deal with the situation where a specific significant new use is CBI, at 40 CFR 721.1725(b)(1).

Under these procedures a manufacturer or processor may request EPA to determine whether a proposed use would be a significant new use under the rule. The manufacturer or processor must show that it has a bona fide intent to manufacture or process the chemical substance and must identify the specific use for which it intends to manufacture or process the chemical substance. If EPA concludes that the person has shown a bona fide intent to manufacture or process the chemical substance, EPA will tell the person whether the use identified in the bona fide submission would be a significant new use under the rule. Since most of the chemical identities of the chemical substances subject to these SNURs are also CBI, manufacturers and processors can combine the bona fide submission under the procedure in 40 CFR 721.1725(b)(1) with that under 40 CFR 721.11 into a single step.

If EPA determines that the use identified in the bona fide submission would not be a significant new use, i.e., the use does not meet the criteria specified in the rule for a significant new use, that person can manufacture or process the chemical substance so long as the significant new use trigger is not met. In the case of a production volume trigger, this means that the aggregate annual production volume does not exceed that identified in the bona fide submission to EPA. Because of confidentiality concerns, EPA does not typically disclose the actual production volume that constitutes the use trigger. Thus, if the person later intends to exceed that volume, a new bona fide submission would be necessary to determine whether that higher volume would be a significant new use.

X. SNUN Submissions

According to 40 CFR 721.1(c), persons submitting a SNUN must comply with the same notification requirements and EPA regulatory procedures as persons submitting a PMN, including submission of test data on health and environmental effects as described in 40 CFR 720.50. SNUNs must be submitted on EPA Form No. 7710-25, generated using e-PMN software, and submitted to the Agency in accordance with the procedures set forth in 40 CFR 720.40 and 721.25. E-PMN software is available electronically at http://www.epa.gov/opptintr/newchems.

XI. Economic Analysis

EPA has evaluated the potential costs of establishing SNUN requirements for potential manufacturers and processors of the chemical substances subject to this rule. EPA's complete economic analysis is available in the docket under docket ID number EPA-HQ-OPPT-2018-0650.

XII. Statutory and Executive Order Reviews

Additional information about these statutes and Executive Orders can be found at https://www.epa.gov/laws-regulations-and-executive-orders.

A. Executive Order 12866: Regulatory Planning and Review and Executive Order 13563: Improving Regulations and Regulatory Review

This action establishes SNURs for several new chemical substances that were the subject of PMNs and TSCA section 5(e) Orders. The Office of Management and Budget (OMB) has exempted these types of actions from review under Executive Orders 12866 (58 FR 51735, October 4, 1993) and 13563 (76 FR 3821, January 21, 2011).

B. Paperwork Reduction Act (PRA)

According to the PRA (44 U.S.C. 3501 et seq.), an agency may not conduct or sponsor, and a person is not required to respond to a collection of information that requires OMB approval under the PRA, unless it has been approved by OMB and displays a currently valid OMB control number. The OMB control numbers for EPA's regulations in title 40 of the CFR, after appearing in the Federal Register, are listed in 40 CFR part 9, and included on the related collection instrument or form, if applicable. EPA is amending the table in 40 CFR part 9 to list the OMB approval number for the information collection requirements contained in this action. This listing of the OMB control numbers and their subsequent codification in the CFR satisfies the display requirements of PRA and OMB's implementing regulations at 5 CFR part 1320. This Information Collection Request (ICR) was previously subject to public notice and comment prior to OMB approval, and given the technical nature of the table, EPA finds that further notice and comment to amend it is unnecessary. As a result, EPA finds that there is “good cause” under section 553(b)(3)(B) of the Administrative Procedure Act (5 U.S.C. 553(b)(3)(B)) to amend this table without further notice and comment.

The information collection activities in this action have already been approved by OMB pursuant to the PRA under OMB control number 2070-0012 (EPA ICR No. 574). This action does not impose any burden requiring additional OMB approval. If an entity were to submit a SNUN to the Agency, the annual burden is estimated to average between 30 and 170 hours per response. This burden estimate includes the time needed to review instructions, search existing data sources, gather and maintain the data needed, and complete, review, and submit the required SNUN.

Send any comments about the accuracy of the burden estimate, and any suggested methods for minimizing respondent burden, including using automated collection techniques, to the Director, Regulatory Support Division, Office of Mission Support (2822T), Environmental Protection Agency, 1200 Pennsylvania Ave. NW, Washington, DC 20460-0001. Please remember to include the OMB control number in any correspondence, but do not submit any completed forms to this address.

C. Regulatory Flexibility Act (RFA)

Pursuant to RFA section 605(b) (5 U.S.C. 601 et seq.), the Agency hereby certifies that promulgation of this SNUR will not have a significant adverse economic impact on a substantial number of small entities. The requirement to submit a SNUN applies to any person (including small or large entities) who intends to engage in any activity described in the final rule as a “significant new use.” Because these uses are “new,” based on all information currently available to EPA, it appears that no small or large entities presently engage in such activities. A SNUR requires that any person who intends to engage in such activity in the future must first notify EPA by submitting a SNUN. EPA's experience to date is that, in response to the promulgation of SNURs covering over 1,000 chemicals, the Agency receives only a small number of notices per year. For example, the number of SNUNs received was seven in Federal fiscal year (FY) 2013, 13 in FY2014, six in FY2015, 10 in FY2016, 14 in FY2017, and 18 in FY2018 and only a fraction of these were from small businesses. In addition, the Agency currently offers relief to qualifying small businesses by reducing the SNUN submission fee from $16,000 to $2,800. This lower fee reduces the total reporting and recordkeeping of cost of submitting a SNUN to about $10,116 for qualifying small firms. Therefore, the potential economic impacts of complying with this SNUR are not expected to be significant or adversely impact a substantial number of small entities. In a SNUR that published in the Federal Register of June 2, 1997 (62 FR 29684) (FRL-5597-1), the Agency presented its general determination that final SNURs are not expected to have a significant economic impact on a substantial number of small entities, which was provided to the Chief Counsel for Advocacy of the Small Business Administration.

D. Unfunded Mandates Reform Act (UMRA)

Based on EPA's experience with proposing and finalizing SNURs, State, local, and Tribal governments have not been impacted by these rulemakings, and EPA does not have any reasons to believe that any State, local, or Tribal government will be impacted by this action. As such, EPA has determined that this action does not impose any enforceable duty, contain any unfunded mandate, or otherwise have any effect on small governments subject to the requirements of UMRA sections 202, 203, 204, or 205 (2 U.S.C. 1501 et seq.).

E. Executive Order 13132: Federalism

This action will not have a substantial direct effect on States, on the relationship between the National Government and the States, or on the distribution of power and responsibilities among the various levels of government, as specified in Executive Order 13132 (64 FR 43255, August 10, 1999).

F. Executive Order 13175: Consultation and Coordination With Indian Tribal Governments

This action does not have Tribal implications because it is not expected to have substantial direct effects on Indian Tribes. This action does not significantly nor uniquely affect the communities of Indian Tribal governments, nor does it involve or impose any requirements that affect Indian Tribes. Accordingly, the requirements of Executive Order 13175 (65 FR 67249, November 9, 2000), do not apply to this action.

G. Executive Order 13045: Protection of Children From Environmental Health Risks and Safety Risks

This action is not subject to Executive Order 13045 (62 FR 19885, April 23, 1997), because this is not an economically significant regulatory action as defined by Executive Order 12866, and this action does not address environmental health or safety risks disproportionately affecting children.

H. Executive Order 13211: Actions Concerning Regulations That Significantly Affect Energy Supply, Distribution, or Use

This action is not subject to Executive Order 13211 (66 FR 28355, May 22, 2001), because this action is not expected to affect energy supply, distribution, or use and because this action is not a significant regulatory action under Executive Order 12866.

I. National Technology Transfer and Advancement Act (NTTAA)

In addition, since this action does not involve any technical standards, NTTAA section 12(d) (15 U.S.C. 272 note) does not apply to this action.

J. Executive Order 12898: Federal Actions To Address Environmental Justice in Minority Populations and Low-Income Populations

This action does not entail special considerations of environmental justice related issues as delineated by Executive Order 12898 (59 FR 7629, February 16, 1994).

XIII. Congressional Review Act (CRA)

Pursuant to the CRA (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects

40 CFR Part 9

Environmental protection, Reporting and recordkeeping requirements.

40 CFR Part 721

Environmental protection, Chemicals, Hazardous substances, Reporting and recordkeeping requirements.

Dated: November 21, 2019.
Tala Henry,
Deputy Director, Office of Pollution Prevention and Toxics.

Therefore, 40 CFR parts 9 and 721 are amended as follows:

PART 9—[AMENDED]

1. The authority citation for part 9 continues to read as follows:

Authority: 7 U.S.C. 135 et seq., 136-136y; 15 U.S.C. 2001, 2003, 2005, 2006, 2601-2671; 21 U.S.C. 331j, 346a, 348; 31 U.S.C. 9701; 33 U.S.C. 1251 et seq., 1311, 1313d, 1314, 1318, 1321, 1326, 1330, 1342, 1344, 1345(d) and (e), 1361; E.O. 11735, 38 FR 21243, 3 CFR, 1971-1975 Comp. p. 973; 42 U.S.C. 241, 242b, 243, 246, 300f, 300g, 300g-1, 300g-2, 300g-3, 300g-4, 300g-5, 300g-6, 300j-1, 300j-2, 300j-3, 300j-4, 300j-9, 1857 et seq., 6901-6992k, 7401-7671q, 7542, 9601-9657, 11023, 11048.

2. In § 9.1, add entries for §§ 721.11194 through 721.11220 in numerical order under the undesignated center heading “Significant New Uses of Chemical Substances” to read as follows:

§ 9.1 OMB approvals under the Paperwork Reduction Act.

* * * * *

Table 2—Segment
40 CFR citation | OMB control No.
* * * * *
Significant New Uses of Chemical Substances
* * * * *
721.11194 | 2070-0012
721.11195 | 2070-0012
721.11196 | 2070-0012
721.11197 | 2070-0012
721.11198 | 2070-0012
721.11199 | 2070-0012
721.11200 | 2070-0012
721.11201 | 2070-0012
721.11202 | 2070-0012
721.11203 | 2070-0012
721.11204 | 2070-0012
721.11205 | 2070-0012
721.11206 | 2070-0012
721.11207 | 2070-0012
721.11208 | 2070-0012
721.11209 | 2070-0012
721.11210 | 2070-0012
721.11211 | 2070-0012
721.11212 | 2070-0012
721.11213 | 2070-0012
721.11214 | 2070-0012
721.11215 | 2070-0012
721.11216 | 2070-0012
721.11217 | 2070-0012
721.11218 | 2070-0012
721.11219 | 2070-0012
721.11220 | 2070-0012
| * * * * *

* * * * *

PART 721—[AMENDED]

3. The authority citation for part 721 continues to read as follows:

Authority: 15 U.S.C. 2604, 2607, and 2625(c).

4. Add § 721.11194 through 721.11220 to subpart E to read as follows:

Subpart E—Significant New Uses for Specific Chemical Substances

* * * * *

Sec.
* * * * *
721.11194 Alkene reaction and distillation by-products and residues (generic).
721.11195 Oxirane, 2-methyl-, polymer with oxirane, monobutyl ether, monoether with propylene oxide-2-[[3-(triethoxysilyl)propoxy]methyl]oxirane polymer.
721.11196 Aliphatic acrylate (generic).
721.11197 Flue dust, glass-manufg. desulfurization. Definition: The dust produced from the flue gas exhaust cleaning of a glass manufacturing process using carbonate containing substances. It consists primarily of Na2S04, Na2CO3, and Na4(SO4)(CO3).
721.11198 Organo-titanate (generic).
721.11199 Dialkyl 7,10-dioxa, dithiahexadeca diene (generic).
721.11200 Haloalkyl substituted carbomonocycle (generic).
721.11201 Amine- and hydroxy-functional acrylic polymer, neutralized (generic).
721.11202 Amine- and hydroxy-functional acrylic polymer (generic).
721.11203 Hydroxy acrylic polymer, methanesulfonates (generic).
721.11204 Alkyl perfluorinated acryloyl ester (generic).
721.11205 Poly(oxy-1,2-ethanediyl), .alpha.-(2-methyl-2-propen-1-yl)-.omega.-hydroxy-.
721.11206 Alkylidene dicarbomonocycle, polymer with halo-substituted heteromonocycle and disubstituted alkyl carbomonocycle alkenedioate alkylalkenoate (generic).
721.11207 Aluminum boron cobalt lithium nickel oxide.
721.11208 Aluminum boron cobalt lithium magnesium nickel oxide.
721.11209 Heteropolycyclic-alkanol carbomonocycle-alkanesulfonate (generic).
721.11210 (Substituted-dialkyl(C=1~7)silyl)alkanenitrile (generic).
721.11211 Substituted heteromonocycle, polymer with diisocyanato alkane and alkanediol, substituted heteromonocycle homopolymer ester with substituted alkylacrylate; blocked (generic).
721.11212 Glycolipids, sophorose-contg., candida bombicola-fermented, from C16-18 and C18-unsatd. glycerides and D-glucose, hydrolyzed, sodium salts.
721.11213 Glycolipids, sophorose-contg., candida bombicola-fermented, from C16-18 and C18-unsatd. glycerides and D-glucose, hydrolyzed, potassium salts.
721.11214 2-Propenoic acid, 2-methyl-, 2-(2-butoxyethoxy)ethyl ester, polymer with 1,3-butadiene and 2-propenenitrile.
721.11215 Halogenated benzoic acid ethyl ester (generic).
721.11216 Halogenated benzoic acid (generic).
721.11217 Certain halogenated sodium benzoate salts.
721.11218 Benzoic acid, 2, 3, 6-trifluoro, sodium salt (1:1).
721.11219 Fatty acids, diesters with dihydroxyalkane, fatty acids, esters with dihydroxyalkane (generic) (P-18-3, chemical A and B).
721.11220 Substituted carbomonocycle, polymer with halo substituted heteromonocycle and polyoxyalkylene polymer with alkylenebis[isocyanatocarbomonocycle] bis (carbomonocycledicarboxylate), reaction products with alkylamines, hydrolyzed (generic).

* * * * *

§ 721.11194 Alkene reaction and distillation by-products and residues (generic).

(a) Chemical substance and significant new uses subject to reporting. (1) The chemical substance identified generically as alkene reaction and distillation by-products and residues (PMN P-15-106) is subject to reporting under this section for the significant new uses described in paragraph (a)(2) of this section.

(2) The significant new uses are:

(i) Protection in the workplace. Requirements as specified in § 721.63(a)(1), (a)(2)(i) and (iii), (a)(3), (4), and (5), (a)(6)(v) and (vi), (b) (concentration set at 1.0%), and (c). When determining which persons are reasonable likely to be exposed as required for § 721.63(a)(1) and (3), engineering control measures (e.g., enclosure or confinement of the operation, general and local ventilation) or administrative control measures (e.g., workplace policies and procedures) shall be considered and implemented to prevent exposures, where feasible. For purposes of § 721.63(a)(5), respirators must provide a National Institute for Occupational Safety and Health (NIOSH) assigned protection factor (APF) of at least 10.

(A) As an alternative to the respirator requirements in paragraph (a)(2)(i) of this section, a manufacturer or processor may choose to follow the new chemical exposure limit (NCEL) provision listed in the TSCA section 5(e) Order for this substance. The NCEL is 2 mg/m³ as an 8-hour time weighted average. Persons who wish to pursue NCELs as an alternative to § 721.63 respirator requirements may request to do so under § 721.30. Persons whose § 721.30 requests to use the NCELs approach are approved by EPA will be required to follow NCELs provisions comparable to those contained in the corresponding TSCA section 5(e) Order.

(B) [Reserved]

(ii) Hazard communication. Requirements as specified in § 721.72(a) through (e) (concentration set at 1.0%), (f), (g)(1)(i), (ii), and (ix), (g)(2)(i), (ii), (iv), and (v) (use respiratory protection or maintain workplace airborne concentrations at or below an 8-hour time-weighted average of 2 mg/m³), (g)(3)(ii), (g)(4) (do not release to water at concentrations that exceed 1 ppb), and (g)(5). Alternative hazard and warning statements that meet the criteria of the Globally Harmonized System and OSHA Hazard Communication Standard may be used.

(iii) Industrial, commercial, and consumer activities. Requirements as specified in § 721.80(q).

(iv) Release to water. Requirements as specified in § 721.90(a)(4), (b)(4), and (c)(4) where N=1.

(b) Specific requirements. The provisions of subpart A of this part apply to this section except as modified by this paragraph (b).

(1) Recordkeeping. Recordkeeping requirements as specified in § 721.125(a) through (i) and (k) are applicable to manufacturers and processors of this substance.

(2) Limitations or revocation of certain notification requirements. The provisions of § 721.185 apply to this section.

(3) Determining whether a specific use is subject to this section. The provisions of § 721.1725(b)(1) apply to paragraph (a)(2)(iii) of this section.

§ 721.11195 Oxirane, 2-methyl-, polymer with oxirane, monobutyl ether, monoether with propylene oxide-2-[[3-(triethoxysilyl)propoxy]methyl]oxirane polymer.

(a) Chemical substance and significant new uses subject to reporting. (1) The chemical substance identified as oxirane, 2-methyl-, polymer with oxirane, monobutyl ether, monoether with propylene oxide-2-[[3-(triethoxysilyl)propoxy]methyl]oxirane polymer (PMN P-15-726, CAS No. 1644400-33-8) is subject to reporting under this section for the significant new uses described in paragraph (a)(2) of this section. The requirements of this section do not apply to quantities of the substance after they have been reacted (cured).

(2) The significant new uses are:

(i) Hazard communication. Requirements as specified in § 721.72(a) through (e) (concentration set at 1.0%), (f), (g)(1)(ii), (g)(2)(ii), and (g)(5). Alternative hazard and warning statements that meet the criteria of the Globally Harmonized System and OSHA Hazard Communication Standard may be used.

(ii) Industrial, commercial, and consumer activities. It is a significant new use to manufacture, process, or use the substance in any manner that generates a vapor, dust, mist, or aerosol.

(b) Specific requirements. The provisions of subpart A of this part apply to this section except as modified by this paragraph (b).

(1) Recordkeeping. Recordkeeping requirements as specified in § 721.125(a) through (c) and (f) through (i) are applicable to manufacturers and processors of this substance.

(2) Limitations or revocation of certain notification requirements. The provisions of § 721.185 apply to this section.

§ 721.11196 Aliphatic acrylate (generic).

(a) Chemical substance and significant new uses subject to reporting. (1) The chemical substance identified generically as aliphatic acrylate (PMN P-16-337) is subject to reporting under this section for the significant new uses described in paragraph (a)(2) of this section. The requirements of this section do not apply to quantities of the substance after they have been reacted (cured).

(2) The significant new uses are:

(i) Protection in the workplace. Requirements as specified § 721.63(a)(1), (a)(2)(i), (iii), and (iv), (a)(3), (4), and (5), (a)(6)(v) and (vi) (particulate), (b) (concentration set at 0.1%), and (c). When determining which persons are reasonable likely to be exposed as required for § 721.63(a)(1) and (4), engineering control measures (e.g., enclosure or confinement of the operation, general and local ventilation) or administrative control measures (e.g., workplace policies and procedures) shall be considered and implemented to prevent exposures, where feasible. For purposes of § 721.63(a)(5), respirators must provide a National Institute for Occupational Safety and Health with assigned protection factor of at least 50.

(ii) Hazard communication. Requirements as specified in § 721.72(a) through (e)(concentration set at 0.1%), (f), (g)(1)(i), (ii), (iv), (vii), and (ix), (g)(2)(i) through (v), (g)(3)(i) and (ii), (g)(4) (release restrictions apply), and (g)(5). Alternative hazard and warning statements that meet the criteria of the Globally Harmonized System and OSHA Hazard Communication Standard may be used.

(iii) Industrial, commercial, and consumer activities. Requirements as specified in § 721.80(g).

(iv) Release to water. Requirements as specified in § 721.90(a)(4), (b)(4), and (c)(4) where N=1.

(b) Specific requirements. The provisions of subpart A of this part apply to this section except as modified by this paragraph (b).

(1) Recordkeeping. Recordkeeping requirements as specified in § 721.125(a) through (i) and (k) are applicable to manufacturers and processors of this substance.

(2) Limitations or revocation of certain notification requirements. The provisions of § 721.185 apply to this section.

§ 721.11197 Flue dust, glass-manufg. desulfurization. Definition: The dust produced from the flue gas exhaust cleaning of a glass manufacturing process using carbonate containing substances. It consists primarily of Na2S04, Na2CO3, and Na4(SO4)(CO3).

(a) Chemical substance and significant new uses subject to reporting. (1) The chemical substance identified as flue dust, glass-manufg. desulfurization. Definition: The dust produced from the flue gas exhaust cleaning of a glass manufacturing process using carbonate containing substances. It consists primarily of Na2S04, Na2CO3, and Na4(SO4)(CO3) (PMN P-16-421, CAS No. 1916486-36-6) is subject to reporting under this section for the significant new uses described in paragraph (a)(2) of this section. The requirements of this section do not apply to quantities of the substance after they have been completely incorporated into a glass product.

(2) The significant new uses are:

(i) Protection in the workplace. Requirements as specified in § 721.63(a)(1), (3), (4), and (5), (a)(6)(v) and (vi) (particulate), and (c). When determining which persons are reasonable likely to be exposed as required for § 721.63(a)(1) and (4), engineering control measures (e.g., enclosure or confinement of the operation, general and local ventilation) or administrative control measures (e.g., workplace policies and procedures) shall be considered and implemented to prevent exposures, where feasible. For purposes of § 721.63(a)(5), respirators must provide a National Institute for Occupational Safety and Health assigned protection factor of at least 50 or when the PMN substance is in a mixture at a concentration below 1.0 percent by weight, an APF of 10.

(ii) Hazard communication. Requirements as specified in § 721.72(a) through (d), (f), (g)(1)(iii), (iv), (vi), and (ix) (cardiovascular effects), (a)(2)(i) through (v), and (a)(5). Alternative hazard and warning statements that meet the criteria of the Globally Harmonized System and OSHA Hazard Communication Standard may be used.

(iii) Industrial, commercial, and consumer activities. Requirements as specified in § 721.80(h). It is a significant new use to modify the processes or uses described in the premanufacture notice such that occupational exposure is increased. It is a significant new use to manufacture the substance with an elemental composition different from that described in the PMN.

(b) Specific requirements. The provisions of subpart A of this part apply to this section except as modified by this paragraph (b).

(1) Recordkeeping. Recordkeeping requirements as specified in § 721.125(a) through (d) and (f) through (i) are applicable to manufacturers and processors of this substance.

(2) Limitations or revocation of certain notification requirements. The provisions of § 721.185 apply to this section.

§ 721.11198 Organo-titanate (generic).

(a) Chemical substance and significant new uses subject to reporting. (1) The chemical substance identified generically as organo-titanate (PMN P-16-600) is subject to reporting under this section for the significant new uses described in paragraph (a)(2) of this section.

(2) The significant new uses are:

(i) Protection in the workplace. Requirements as specified in § 721.63(a)(1) and (3), (a)(6) (particulate), (b) (concentration set at 0.1%), and (c). When determining which persons are reasonable likely to be exposed as required for § 721.63(a)(1), engineering control measures (e.g., enclosure or confinement of the operation, general and local ventilation) or administrative control measures (e.g., workplace policies and procedures) shall be considered and implemented to prevent exposures, where feasible.

(ii) Hazard communication. Requirements as specified in § 721.72(a) through (e) (concentration set at 0.1%), (f), (g)(1)(vii), (g)(2)(i) and (v), (g)(3)(ii), (g)(4)(iii), and (g)(5). Alternative hazard and warning statements that meet the criteria of the Globally Harmonized System and OSHA Hazard Communication Standard may be used.

(iii) Industrial, commercial, and consumer activities. Requirements as specified in § 721.80(k). It is a significant new use to process or use the substance involving an application method that generates a vapor, mist, or aerosol.

(iv) Release to water. Requirements as specified in § 721.90(a)(1), (b)(1), and (c)(1).

(b) Specific requirements. The provisions of subpart A of this part apply to this section except as modified by this paragraph (b).

(1) Recordkeeping. Recordkeeping requirements as specified in § 721.125(a) through (i) and (k) are applicable to manufacturers and processors of this substance.

(2) Limitations or revocation of certain notification requirements. The provisions of § 721.185 apply to this section.

(3) Determining whether a specific use is subject to this section. The provisions of § 721.1725(b)(1) apply to paragraph (a)(2)(iii) of this section.

§ 721.11199 Dialkyl 7,10-dioxa, dithiahexadeca diene (generic).

(a) Chemical substance and significant new uses subject to reporting. (1) The chemical substance identified generically as dialkyl 7,10-dioxa, dithiahexadeca diene (PMN P-17-7) is subject to reporting under this section for the significant new uses described in paragraph (a)(2) of this section.

(2) The significant new uses are:

(i) Protection in the workplace. Requirements as specified in § 721.63(a)(1), (a)(2)(i), (iii), and (iv), (a)(3), (a)(6)(v) and (vi) (particulate), (b)(concentration set at 0.1%), and (c). When determining which persons are reasonable likely to be exposed as required for § 721.63(a)(1), engineering control measures (e.g., enclosure or confinement of the operation, general and local ventilation) or administrative control measures (e.g., workplace policies and procedures) shall be considered and implemented to prevent exposures, where feasible.

(ii) Hazard communication. Requirements as specified in § 721.72(a) through (e) (concentration set at 0.1%), (f), (g)(1)(iv), (vi), (vii), and (ix) ((skin sensitization), (respiratory sensitization)), (g)(2)(i) through (iii) and (v), (g)(3)(i) and (ii), (g)(4)(i), and (g)(5). Alternative hazard warning statements that meet the criteria of the Globally Harmonized System and OSHA Hazard Communication Standard may be used.

(iii) Industrial, commercial, and consumer activities. Requirements as specified in § 721.80(g). It is a significant new use to manufacture, process, or use the substance involving an application method that generates a vapor, mist, dust, or aerosol.

(iv) Release to water. Requirements as specified in § 721.90(a)(4), (b)(4), and (c)(4) where N=67.

(b) Specific requirements. The provision of subpart A of this part apply to this section except as modified by this paragraph (b).

(1) Recordkeeping. Recordkeeping requirements as specified in § 721.125(a) through (i) and (k) are applicable to manufacturers and processors of this substance.

(2) Limitations or revocation of certain notification requirements. The provisions of § 721.185 apply to this section.

§ 721.11200 Haloalkyl substituted carbomonocycle (generic).

(a) Chemical substance and significant new uses subject to reporting. (1) The chemical substance identified generically as haloalkyl substituted carbomonocycle (PMN P-17-49) is subject to reporting under this section for the significant new uses described in paragraph (a)(2) of this section.

(2) The significant new uses are:

(i) Protection in the workplace. Requirements as specified § 721.63(a)(1), (a)(2)(i) through (iv), (a)(3), (4), (5), and (6) (particulate), and (c). When determining which persons are reasonably likely to be exposed as required for § 721.63(a)(1) and (4), engineering control measures (e.g., enclosure or confinement of the operation, general and local ventilation) or administrative control measures (e.g., workplace policies and procedures) shall be considered and implemented to prevent exposure where feasible. For purposes of § 721.63(a)(5), respirators must provide a National Institute for Occupational Safety and Health with assigned protection factor of at least 10.

(ii) Hazard communication. Requirements as specified in § 721.72(a) through (d), (f), (g)(1)(ix) ((irritation) (sensitization) (liver toxicity) (mutagenicity)), (g)(2)(i) through (v), (g)(4)(i) and (iii), and (g)(5). Alternative hazard and warning statements that meet the criteria of the Globally Harmonized System and OSHA Hazard Communication Standard may be used.

(iii) Industrial, commercial, and consumer activities. Requirements as specified in § 721.80(f), (k), and (t). It is a significant new use to use the substance without the confidential engineering controls specified in the TSCA section 5(e) Order.

(iv) Disposal. Requirements as specified in § 721.85(a)(1), (b)(1), and (c)(1).

(v) Release to water. Requirements as specified in § 721.90(a)(1), (b)(1), and (c)(1).

(b) Specific requirements. The provisions of subpart A of this part apply to this section except as modified by this paragraph (b).

(1) Recordkeeping. Recordkeeping requirements as specified in § 721.125(a) through (k) are applicable to manufacturers and processors of this substance.

(2) Limitations or revocation of certain notification requirements. The provisions of § 721.185 apply to this section.

(3) Determining whether a specific use is subject to this section. The provisions of § 721.1725(b)(1) apply to paragraph (a)(2)(iii) of this section.

§ 721.11201 Amine- and hydroxy-functional acrylic polymer, neutralized (generic).

(a) Chemical substance and significant new uses subject to reporting. (1) The chemical substance identified generically as amine- and hydroxy-functional acrylic polymer, neutralized (PMN P-17-249) is subject to reporting under this section for the significant new uses described in paragraph (a)(2) of this section. The requirements of this section do not apply to quantities of the substance after they have been completely entrained in dried coating.

(2) The significant new uses are:

(i) Hazard communication. Requirements as specified in § 721.72(a) through (e) (concentration set at 1.0%), (f), (g)(1)(ii), (g)(2)(ii), (g)(3)(ii), (g)(4)(i), and (g)(5). Alternative hazard and warning statements that meet the criteria of the Globally Harmonized System and OSHA Hazard Communication Standard may be used. For purposes of § 721.63(g)(4)(i), do not release to water without pre-treatment of water releases at an onsite waste water treatment plant with at least 96% efficiency.

(ii) Industrial, commercial, and consumer activities. Requirements as specified in § 721.80(k). It is a significant new use to use the substance without the confidential engineering controls specified in the TSCA section 5(e) Order. It is a significant new use to manufacture or use the substance with methods that generate a dust, spray, mist, or aerosol.

(iii) Disposal. Requirements as specified in § 721.85(a)(1), (b)(1), and (c)(1).

(iv) Release to water. It is a significant new use to release to water without pretreatment at an on-site wastewater treatment plant with at least 96% efficiency.

(b) Specific requirements. The provisions of subpart A of this part apply to this section except as modified by this paragraph (b).

(1) Recordkeeping. Recordkeeping requirements as specified in § 721.125(a) through (c) and (f) through (k) are applicable to manufacturers and processors of this substance.

(2) Limitations or revocation of certain notification requirements. The provisions of § 721.185 apply to this section.

(3) Determining whether a specific use is subject to this section. The provisions of § 721.1725(b)(1) apply to paragraph (a)(2)(ii) of this section.

§ 721.11202 Amine- and hydroxy-functional acrylic polymer (generic).

(a) Chemical substance and significant new uses subject to reporting. (1) The chemical substance identified generically as amine- and hydroxy-functional acrylic polymer (PMN P-17-380) is subject to reporting under this section for the significant new uses described in paragraph (a)(2) of this section. The requirements of this section do not apply to quantities of the substance after they have been completely entrained in dried coating.

(2) The significant new uses are:

(i) Hazard communication. Requirements as specified in § 721.72(a) through (e) (concentration set at 1.0%), (f), (g)(1)(ii), (g)(2)(ii), (g)(3)(ii), (g)(4)(i), and (g)(5). Alternative hazard and warning statements that meet the criteria of the Globally Harmonized System and OSHA Hazard Communication Standard may be used. For purposes of § 721.63(g)(4)(i), do not release to water without pre-treatment of water releases at an onsite waste water treatment plant with at least 96% efficiency.

(ii) Industrial, commercial, and consumer activities. Requirements as specified in § 721.80(k). It is a significant new use to use the substance without the confidential engineering controls specified in the TSCA section 5(e) Order. It is a significant new use to manufacture or use the substance with methods that generate a dust, spray, mist, or aerosol.

(iii) Disposal. Requirements as specified in § 721.85(a)(1), (b)(1), and (c)(1).

(iv) Release to water. It is a significant new use to release to water without pretreatment at an on-site wastewater treatment plant with at least 96% efficiency.

(b) Specific requirements. The provisions of subpart A of this part apply to this section except as modified by this paragraph (b).

(1) Recordkeeping. Recordkeeping requirements as specified in § 721.125(a) through (c) and (f) through (k) are applicable to manufacturers and processors of this substance.

(2) Limitations or revocation of certain notification requirements. The provisions of § 721.185 apply to this section.

(3) Determining whether a specific use is subject to this section. The provisions of § 721.1725(b)(1) apply to paragraph (a)(2)(ii) of this section.

§ 721.11203 Hydroxy acrylic polymer, methanesulfonates (generic).

(a) Chemical substance and significant new uses subject to reporting. (1) The chemical substance identified generically as hydroxy acrylic polymer, methanesulfonates (PMN P-17-381) is subject to reporting under this section for the significant new uses described in paragraph (a)(2) of this section. The requirements of this section do not apply to quantities of the substance after they have been completely entrained in dried coating.

(2) The significant new uses are:

(i) Hazard communication. Requirements as specified in § 721.72(a) through (e) (concentration set at 1.0%), (f), (g)(1)(ii), (g)(2)(ii), (g)(3)(ii), (g)(4)(i), and (g)(5). Alternative hazard and warning statements that meet the criteria of the Globally Harmonized System and OSHA Hazard Communication Standard may be used. For purposes of § 721.63(g)(4)(i), do not release to water without pre-treatment of water releases at an onsite waste water treatment plant with at least 96% efficiency.

(ii) Industrial, commercial, and consumer activities. Requirements as specified in § 721.80(k). It is a significant new use to use the substance without the confidential engineering controls specified in the TSCA section 5(e) Order. It is a significant new use to manufacture or use the substance with methods that generate a dust, spray, mist, or aerosol.

(iii) Disposal. Requirements as specified in § 721.85(a)(1), (b)(1), and (c)(1).

(iv) Release to water. It is a significant new use to release to water without pretreatment at an on-site wastewater treatment plant with at least 96% efficiency.

(b) Specific requirements. The provisions of subpart A of this part apply to this section except as modified by this paragraph (b).

(1) Recordkeeping. Recordkeeping requirements as specified in § 721.125(a) through (c) and (f) through (k) are applicable to manufacturers and processors of this substance.

(2) Limitations or revocation of certain notification requirements. The provisions of § 721.185 apply to this section.

(3) Determining whether a specific use is subject to this section. The provisions of § 721.1725(b)(1) apply to paragraph (a)(2)(ii) of this section.

§ 721.11204 Alkyl perfluorinated acryloyl ester (generic).

(a) Chemical substance and significant new uses subject to reporting. (1) The chemical substance identified generically as alkyl perfluorinated acryloyl ester (PMN P-17-270) is subject to reporting under this section for the significant new uses described in paragraph (a)(2) of this section. The requirements of this section do not apply to quantities of the substance after they have been completely reacted (cured).

(2) The significant new uses are:

(i) Industrial, commercial, and consumer activities. Requirements as specified in § 721.80(f), (k), and (t).

(ii) [Reserved]

(b) Specific requirements. The provisions of subpart A of this part apply to this section except as modified by this paragraph (b).

(1) Recordkeeping. Recordkeeping requirements as specified in § 721.125(a) through (c) and (i) are applicable to manufacturers and processors of this substance.

(2) Limitations or revocation of certain notification requirements. The provisions of § 721.185 apply to this section.

(3) Determining whether a specific use is subject to this section. The provisions of § 721.1725(b)(1) apply to paragraph (a)(2)(i) of this section.

§ 721.11205 Poly(oxy-1,2-ethanediyl), .alpha.-(2-methyl-2-propen-1-yl)-.omega.-hydroxy-.

(a) Chemical substance and significant new uses subject to reporting. (1) The chemical substance identified as poly(oxy-1,2-ethanediyl), .alpha.-(2-methyl-2-propen-1-yl)-.omega.-hydroxy- (PMN P-17-271, CAS No. 31497-33-3) is subject to reporting under this section for the significant new uses described in paragraph (a)(2) of this section. The requirements of this section do not apply to quantities of the substances after they have been reacted (cured).

(2) The significant new uses are:

(i) Hazard communication. Requirements as specified in § 721.72(a) through (e) (concentration set at 1.0%), (f), (g)(1)(ii), (g)(2)(ii) and (iii), and (g)(5). Alternative hazard and warning statements that meet the criteria of the Globally Harmonized System and OSHA Hazard Communication Standard may be used.

(ii) Industrial, commercial, and consumer activities. Requirements as specified in § 721.80(f). It is a significant new use to use the substance other than as a polymer intermediate. It is a significant new use to manufacture, process or use the substance in a manner that generates a vapor, mist, or aerosol, or that results in inhalation exposure.

(b) Specific requirements. The provisions of subpart A of this part apply to this section except as modified by this paragraph (b).

(1) Recordkeeping. Recordkeeping requirements as specified in § 721.125(a) through (c) and (f) through (i) are applicable to manufacturers and processors of this substance.

(2) Limitations or revocation of certain notification requirements. The provisions of § 721.185 apply to this section.

§ 721.11206 Alkylidene dicarbomonocycle, polymer with halo-substituted heteromonocycle and disubstituted alkyl carbomonocycle alkenedioate alkylalkenoate (generic).

(a) Chemical substance and significant new uses subject to reporting. (1) The chemical substance identified generically as alkylidene dicarbomonocycle, polymer with halo-substituted heteromonocycle and disubstituted alkyl carbomonocycle alkenedioate alkylalkenoate (PMN P-17-304) is subject to reporting under this section for the significant new uses described in paragraph (a)(2) of this section. The requirements of this section do not apply to quantities of the substance after it has been reacted (cured).

(2) The significant new uses are:

(i) Protection in the workplace. Requirements as specified § 721.63(a)(1), (a)(2)(i), (a)(3), (a)(6)(v) and (vi) (particulate), (b) (concentration set at 1.0%), and (c). When determining which persons are reasonably likely to be exposed as required for § 721.63(a)(1), engineering control measures (e.g., enclosure or confinement of the operation, general and local ventilation) or administrative control measures (e.g., workplace policies and procedures) shall be considered and implemented to prevent exposure where feasible.

(ii) Hazard communication. Requirements as specified in § 721.72(a) through (e) (concentration set at 1.0%), (f), (g)(1)(ii) (skin sensitization), (g)(2)(i), (ii), and (v), and (g)(5). Alternative hazard and warning statements that meet the criteria of the Globally Harmonized System and OSHA Hazard Communication Standard may be used.

(iii) Industrial, commercial, and consumer activities. Requirements as specified in § 721.80(f). It is a significant new use to use the substance other than as an intermediate for thermoset plastic material. It is a significant new use to manufacture (includes importing) the substance to contain more than 0.1% residual isocyanate by weight.

(b) Specific requirements. The provisions of subpart A of this part apply to this section except as modified by this paragraph (b).

(1) Recordkeeping. Recordkeeping requirements as specified in § 721.125(a) through (i) are applicable to manufacturers and processors of this substance.

(2) Limitations or revocation of certain notification requirements. The provisions of § 721.185 apply to this section.

§ 721.11207 Aluminum boron cobalt lithium nickel oxide.

(a) Chemical substance and significant new uses subject to reporting. (1) The chemical substance identified as aluminum boron cobalt lithium nickel oxide (PMN P-17-337, CAS No. 207803-51-8) is subject to reporting under this section for the significant new uses described in paragraph (a)(2) of this section.

(2) The significant new uses are:

(i) Protection in the workplace. Requirements as specified in § 721.63(a)(1), (a)(2)(i) and (ii), (a)(3)(i) and (ii), (a)(4) and (5), (b) (concentration set at 0.1%), and (c). When determining which persons are reasonable likely to be exposed as required for § 721.63(a)(1), engineering control measures (e.g., enclosure or confinement of the operation, general and local ventilation) or administrative control measures (e.g., workplace policies and procedures) shall be considered and implemented to prevent exposures, where feasible. For purposes of § 721.63(a)(5), respirators must provide a National Institute for Occupational Safety and Health assigned protection factor of at least 1,000.

(A) As an alternative to the respirator requirements in paragraph (a)(2)(i) of this section, a manufacturer or processor may choose to follow the new chemical exposure limit (NCEL) provision listed in the TSCA section 5(e) Order for this substance. The NCEL 0.000092 mg/m³ as an 8-hour time weighted average. Persons who wish to pursue NCELs as an alternative to § 721.63 respirator requirements may request to do so under § 721.30. Persons whose § 721.30 requests to use the NCELs approach are approved by EPA will be required to follow NCELs provisions comparable to those contained in the corresponding TSCA section 5(e) Order.

(B) [Reserved]

(ii) Hazard communication. Requirements as specified in § 721.72(a) through (e), (concentration set at 0.1%), (f), (g)(1)(i) and (vii) (damage to the lung, kidney, and spleen), (g)(2)(i), (iii), and (iv), and (g)(5). Alternative hazard and warning statements that meet the criteria of the Globally Harmonized System and OSHA Hazard Communication Standard may be used. For purposes of § 721.63(g), use respiratory protection or maintain workplace airborne concentrations at or below an 8-hour time-weighted average of 0.000092 mg/m³, and avoid breathing substance in the dust form.

(iii) Industrial, commercial, and consumer activities. It is a significant new use to manufacture the substance beyond two years. It is a significant new use to manufacture or process the substance at any facility unless all process air streams containing the substances pass through control technology such as a high-efficiency particulate air filter with a rated removal efficiency of at least 99.99%.

(iv) Disposal. Requirements as specified in § 721.85(a)(2), (b)(2), and (c)(2). It is a significant new use to dispose of the substance by metal reclamation unless the person reclaiming metal containing the substance complies with this section. It is a significant new use to release the substance to air unless the chemical transfer and air ventilation processes specified in the TSCA section 5(e) Order are followed.

(b) Specific requirements. The provisions of subpart A of this part apply to this section except as modified by this paragraph (b).

(1) Recordkeeping. Recordkeeping requirements as specified in § 721.125(a) through (j) are applicable to manufacturers and processors of this substance.

(2) Limitations or revocation of certain notification requirements. The provisions of § 721.185 apply to this section.

(3) Determining whether a specific use is subject to this section. The provisions of § 721.1725(b)(1) apply to paragraph (a)(2)(iv) of this section.

§ 721.11208 Aluminum boron cobalt lithium magnesium nickel oxide.

(a) Chemical substance and significant new uses subject to reporting. (1) The chemical substance identified as aluminum boron cobalt lithium magnesium nickel oxide (PMN P-17-338, CAS No. 2087499-33-8) is subject to reporting under this section for the significant new uses described in paragraph (a)(2) of this section.

(2) The significant new uses are:

(i) Protection in the workplace. Requirements as specified in § 721.63(a)(1), (a)(2)(i) and (ii), (a)(3)(i) and (ii), (a)(4) and (5), (b) (concentration set at 0.1%), and (c). When determining which persons are reasonable likely to be exposed as required for § 721.63(a)(1), engineering control measures (e.g., enclosure or confinement of the operation, general and local ventilation) or administrative control measures (e.g., workplace policies and procedures) shall be considered and implemented to prevent exposures, where feasible. For purposes of § 721.63(a)(5), respirators must provide a National Institute for Occupational Safety and Health assigned protection factor of at least 1,000.

(A) As an alternative to the respirator requirements in paragraph (a)(2)(i) of this section, a manufacturer or processor may choose to follow the new chemical exposure limit (NCEL) provision listed in the TSCA section 5(e) Order for this substance. The NCEL 0.000092 mg/m³ as an 8-hour time weighted average. Persons who wish to pursue NCELs as an alternative to § 721.63 respirator requirements may request to do so under § 721.30. Persons whose § 721.30 requests to use the NCELs approach are approved by EPA will be required to follow NCELs provisions comparable to those contained in the corresponding TSCA section 5(e) Order.

(B) [Reserved]

(ii) Hazard communication. Requirements as specified in § 721.72(a) through (e), (concentration set at 0.1%), (f), (g)(1)(i) and (vii) (damage to the lung, kidney, and spleen), (g)(2)(i), (iii), and (iv), and (g)(5). Alternative hazard and warning statements that meet the criteria of the Globally Harmonized System and OSHA Hazard Communication Standard may be used. For purposes of § 721.63(g), use respiratory protection or maintain workplace airborne concentrations at or below an 8-hour time-weighted average of 0.000092 mg/m³, and avoid breathing substance in the dust form.

(iii) Industrial, commercial, and consumer activities. It is a significant new use to manufacture the substance beyond two years. It is a significant new use to manufacture or process the substance at any facility unless all process air streams containing the substances pass through control technology such as a high-efficiency particulate air filter with a rated removal efficiency of at least 99.99%.

(iv) Disposal. Requirements as specified in § 721.85(a)(2), (b)(2), and (c)(2). It is a significant new use to dispose of the substance by metal reclamation unless the person reclaiming metal containing the substance complies with this section. It is a significant new use to release the substance to air unless the chemical transfer and air ventilation processes specified in the TSCA section 5(e) Order are followed.

(b) Specific requirements. The provisions of subpart A of this part apply to this section except as modified by this paragraph (b).

(1) Recordkeeping. Recordkeeping requirements as specified in § 721.125(a) through (j) are applicable to manufacturers and processors of this substance.

(2) Limitations or revocation of certain notification requirements. The provisions of § 721.185 apply to this section.

(3) Determining whether a specific use is subject to this section. The provisions of § 721.1725(b)(1) apply to paragraph (a)(2)(iv) of this section.

§ 721.11209 Heteropolycyclic-alkanol carbomonocycle-alkanesulfonate (generic).

(a) Chemical substance and significant new uses subject to reporting. (1) The chemical substance identified generically as heteropolycyclic-alkanol carbomonocycle-alkanesulfonate (PMN P-17-343) is subject to reporting under this section for the significant new uses described in paragraph (a)(2) of this section.

(2) The significant new uses are:

(i) Protection in the workplace. Requirements as specified in § 721.63(a)(1), (a)(2)(i) and (iii), (a)(3), (a)(6) (particulate), (b) (concentration set at 1.0%), and (c). When determining which persons are reasonable likely to be exposed as required for § 721.63(a)(1), engineering control measures (e.g., enclosure or confinement of the operation, general and local ventilation) or administrative control measures (e.g., workplace policies and procedures) shall be considered and implemented to prevent exposures, where feasible.

(ii) Hazard communication. Requirements as specified in § 721.72(a) through (e) (concentration set at 1.0%), (f), (g)(1)(i), (vi), and (ix) ((eye irritation), (systemic effects)), (g)(2)(i) through (iii) and (v), (g)(3)(i) and (ii), and (g)(5). Alternative hazard and warning statements that meet the criteria of the Globally Harmonized System and OSHA Hazard Communication Standard may be used.

(iii) Industrial, commercial, and consumer activities. Requirements as specified in § 721.80(k). It is a significant new use to manufacture, process or use the substance in a manner that results in inhalation exposure to a vapor, mist, dust or aerosol.

(b) Specific requirements. The provisions of subpart A of this part apply to this section except as modified by this paragraph (b).

(1) Recordkeeping. Recordkeeping requirements as specified in § 721.125(a) through (i) are applicable to manufacturers and processors of this substance.

(2) Limitations or revocation of certain notification requirements. The provisions of § 721.185 apply to this section.

(3) Determining whether a specific use is subject to this section. The provisions of § 721.1725 (b)(1) apply to paragraph (a)(2)(iii) of this section.

§ 721.11210 (Substituted-dialkyl(C=1~7)silyl)alkanenitrile (generic).

(a) Chemical substance and significant new uses subject to reporting. (1) The chemical substance identified generically as (substituted-dialkyl(C=1~7)silyl)alkanenitrile (PMN P-17-354) is subject to reporting under this section for the significant new uses described in paragraph (a)(2) of this section.

(2) The significant new uses are:

(i) Protection in the workplace. Requirements as specified in § 721.63(a)(1), (a)(2)(i) and (iii), (a)(3), (4), and (5), (a)(6)(v) and (vi) (particulate), (b)(concentration set at 1.0%), and (c). When determining which persons are reasonable likely to be exposed as required for § 721.63(a)(1) and (4), engineering control measures (e.g., enclosure or confinement of the operation, general and local ventilation) or administrative control measures (e.g., workplace policies and procedures) shall be considered and implemented to prevent exposures, where feasible. For purposes of § 721.63(a)(5), respirators must provide a National Institute for Occupational Safety and Health with assigned protection factor of at least 50.

(ii) Hazard communication. Requirements as specified in § 721.72(a) through (e) (concentration set at 1.0%), (f), (g)(1)(ii), (iv), (vi), and (ix) ((skin and eye irritation), (sensitization), (mutagenicity)), (g)(2)(i) through (v) (use eye protection), (g)(3)(i) and (ii), (g)(4)(i) and (iii), and (g)(5). Alternative hazard and warning statements that meet the criteria of the Globally Harmonized System and OSHA Hazard Communication Standard may be used.

(iii) Industrial, commercial, and consumer activities. Requirements as specified in § 721.80(k).

(iv) Disposal. Requirements as specified in § 721.85(a)(1), (b)(1), and (c)(1) (waste streams from use must be disposed of only by incineration with no less than 99.9% efficiency).

(b) Specific requirements. The provisions of subpart A of this part apply to this section except as modified by this paragraph (b).

(1) Recordkeeping. Recordkeeping requirements as specified in § 721.125(a) through (j) are applicable to manufacturers and processors of this substance.

(2) Limitations or revocation of certain notification requirements. The provisions of § 721.185 apply to this section.

(3) Determining whether a specific use is subject to this section. The provisions of § 721.1725(b)(1) apply to paragraph (a)(2)(iii) of this section.

§ 721.11211 Substituted heteromonocycle, polymer with diisocyanato alkane and alkanediol, substituted heteromonocycle homopolymer ester with substituted alkylacrylate; blocked (generic).

(a) Chemical substance and significant new uses subject to reporting. (1) The chemical substance identified generically as substituted heteromonocycle, polymer with diisocyanato alkane and alkanediol, substituted heteromonocycle homopolymer ester with substituted alkylacrylate- blocked (PMN P-17-361) is subject to reporting under this section for the significant new uses described in paragraph (a)(2) of this section. The requirements of this section do not apply to quantities of the substance after they have been completely reacted (cured).

(2) The significant new uses are:

(i) Protection in the workplace. Requirements as specified in § 721.63(a)(1), (a)(2)(i), (a)(3), (4), and (5), (a)(6)(v) and (vi) (particulate), (b) (concentration set at 0.1%), and (c). When determining which persons are reasonable likely to be exposed as required for § 721.63(a)(1) and (4), engineering control measures (e.g., enclosure or confinement of the operation, general and local ventilation) or administrative control measures (e.g., workplace policies and procedures) shall be considered and implemented to prevent exposures, where feasible. For purposes of § 721.63(a)(5), respirators must provide a National Institute for Occupational Safety and Health with assigned protection factor (APF) of at least 50 or an APF of at least 1,000 if spray applied.

(ii) Hazard communication. Requirements as specified in § 721.72(a) through (e) (concentration set at 0.1%), (f), (g)(1)(i), (vii), and (ix) ((sensitization), (systemic effects)), (g)(2)(i) through (v), and (g)(5). Alternative hazard and warning statements that meet the criteria of the Globally Harmonized System and OSHA Hazard Communication Standard may be used.

(iii) Industrial, commercial, and consumer activities. Requirements as specified in § 721.80(f). It is a significant new use to manufacture the substance containing greater than 0.25% residual isocyanate or an average molecular weight less than 2,280 daltons. It is a significant new use to use the substance other than as a dual-cure adhesion coating or barrier.

(b) Specific requirements. The provisions of subpart A of this part apply to this section except as modified by this paragraph (b).

(1) Recordkeeping. Recordkeeping requirements as specified in § 721.125(a) through (i) are applicable to manufacturers and processors of this substance.

(2) Limitations or revocation of certain notification requirements. The provisions of § 721.185 apply to this section.

§ 721.11212 Glycolipids, sophorose-contg., candida bombicola-fermented, from C16-18 and C18-unsatd. glycerides and D-glucose, hydrolyzed, sodium salts.

(a) Chemical substance and significant new uses subject to reporting. (1) The chemical substance identified as glycolipids, sophorose-contg., candida bombicola-fermented, from C16-18 and C18-unsatd. glycerides and D-glucose, hydrolyzed, sodium salts (PMN P-17-401, CAS No. 2102535-74-8) is subject to reporting under this section for the significant new uses described in paragraph (a)(2) of this section.

(2) The significant new uses are:

(i) Protection in the workplace. Requirements as specified in § 721.63(a)(1), (a)(2)(i) and (iii), (a)(3) and (a)(6)(v) and (vi) (particulate), (b)(concentration set at 1.0%), and (c). When determining which persons are reasonable likely to be exposed as required for § 721.63(a)(1), engineering control measures (e.g., enclosure or confinement of the operation, general and local ventilation) or administrative control measures (e.g., workplace policies and procedures) shall be considered and implemented to prevent exposures, where feasible.

(ii) Hazard communication. Requirements as specified in § 721.72(a) through (e) (concentration set at 1.0%), (f), (g)(1)(i) and (ii) (eye irritation), (g)(2)(i) through (iii) and (v), and (g)(5). Alternative hazard and warning statements that meet the criteria of the Globally Harmonized System and OSHA Hazard Communication Standard may be used.

(iii) Industrial, commercial, and consumer activities. Requirements as specified in § 721.80(f). It is a significant new use to manufacture, process, or use the substance for consumer use or for commercial uses that could introduce the substance into a consumer setting. It is a significant new use to manufacture, process, or use the substance in any manner that results in generation of a vapor, dust, mist or aerosol.

(b) Specific requirements. The provisions of subpart A of this part apply to this section except as modified by this paragraph (b).

(1) Recordkeeping. Recordkeeping requirements as specified in § 721.125(a) through (i) are applicable to manufacturers and processors of this substance.

(2) Limitations or revocation of certain notification requirements. The provisions of § 721.185 apply to this section.

§ 721.11213 Glycolipids, sophorose-contg., candida bombicola-fermented, from C16-18 and C18-unsatd. glycerides and D-glucose, hydrolyzed, potassium salts.

(a) Chemical substance and significant new uses subject to reporting. (1) The chemical substance identified as glycolipids, sophorose-contg., Candida bombicola-fermented, from C16-18 and C18-unsatd. glycerides and D-glucose, hydrolyzed, sodium salts (PMN P-17-402, CAS No. 2102536-64-9) is subject to reporting under this section for the significant new uses described in paragraph (a)(2) of this section.

(2) The significant new uses are:

(i) Protection in the workplace. Requirements as specified in § 721.63(a)(1), (a)(2)(i) and (iii), (a)(3), (a)(6)(v) and (vi) (particulate), (b)(concentration set at 1.0%), and (c). When determining which persons are reasonable likely to be exposed as required for § 721.63(a)(1), engineering control measures (e.g., enclosure or confinement of the operation, general and local ventilation) or administrative control measures (e.g., workplace policies and procedures) shall be considered and implemented to prevent exposures, where feasible.

(ii) Hazard communication. Requirements as specified in § 721.72(a) through (e) (concentration set at 1.0%), (f), (g)(1)(i) and (ii) (eye irritation), (g)(2)(i) through (iii) and (v), and (g)(5). Alternative hazard and warning statements that meet the criteria of the Globally Harmonized System and OSHA Hazard Communication Standard may be used.

(iii) Industrial, commercial, and consumer activities. Requirements as specified in § 721.80(f). It is a significant new use to manufacture, process, or use the substance for consumer use or for commercial uses that could introduce the substance into a consumer setting. It is a significant new use to manufacture, process, or use the substance in any manner that results in generation of a vapor, dust, mist or aerosol.

(b) Specific requirements. The provisions of subpart A of this part apply to this section except as modified by this paragraph (b).

(1) Recordkeeping. Recordkeeping requirements as specified in § 721.125(a) through (i) are applicable to manufacturers and processors of this substance.

(2) Limitations or revocation of certain notification requirements. The provisions of § 721.185 apply to this section.

§ 721.11214 2-Propenoic acid, 2-methyl-, 2-(2-butoxyethoxy)ethyl ester, polymer with 1,3-butadiene and 2-propenenitrile.

(a) Chemical substance and significant new uses subject to reporting. (1) The chemical substance identified as 2-propenoic acid, 2-methyl-, 2-(2-butoxyethoxy)ethyl ester, polymer with 1,3-butadiene and 2-propenenitrile (PMN P-17-404, CAS No. 2058302-39-7) is subject to reporting under this section for the significant new uses described in paragraph (a)(2) of this section. The requirements of this section do not apply to quantities of the substance after they have been reacted (cured).

(2) The significant new uses are:

(i) Industrial, commercial, and consumer activities. It is a significant new use to manufacture, process, or use the substance in any manner that results in the generation of spray, mist, aerosol, or respirable particles.

(ii) [Reserved]

(b) Specific requirements. The provisions of subpart A of this part apply to this section except as modified by this paragraph (b).

(1) Recordkeeping. Recordkeeping requirements as specified in § 721.125(a) through (c) and (i) are applicable to manufacturers and processors of this substance.

(2) Limitations or revocation of certain notification requirements. The provisions of § 721.185 apply to this section.

§ 721.11215 Halogenated benzoic acid ethyl ester (generic).

(a) Chemical substance and significant new uses subject to reporting. (1) The chemical substances identified generically in table 1 of this section are subject to reporting under this section for the significant new uses described in paragraph (a)(2) of this section.

Table 1 of § 721.11215—Halogenated Benzoic Acid Ethyl Esters
PMN No. | Chemical name (generic)
P-17-405 | Halogenated benzoic acid ethyl ester.
P-17-406 | Halogenated benzoic acid ethyl ester.
P-17-407 | Halogenated benzoic acid ethyl ester.
P-17-408 | Halogenated benzoic acid ethyl ester.
P-17-409 | Halogenated benzoic acid ethyl ester.
P-17-410 | Halogenated benzoic acid ethyl ester.
P-17-411 | Halogenated benzoic acid ethyl ester.
P-17-412 | Halogenated benzoic acid ethyl ester.
P-17-423 | Halogenated benzoic acid ethyl ester.

(2) The significant new uses are:

(i) Protection in the workplace. Requirements as specified in § 721.63(a)(1), (a)(2)(i) and (iv), (a)(3), (a)(4) and (a)(6)(v) and (vi) (particulate), (b)(concentration set at 1.0%), and (c). When determining which persons are reasonable likely to be exposed as required for § 721.63(a)(1), engineering control measures (e.g., enclosure or confinement of the operation, general and local ventilation) or administrative control measures (e.g., workplace policies and procedures) shall be considered and implemented to prevent exposures, where feasible.

(ii) Industrial, commercial, and consumer activities. Requirements as specified in § 721.80(q) and (t). It is a significant new use to use the substances other than for oil and gas well performance. It is a significant new use to manufacture or process the substances without the engineering controls specified in the TSCA section 5(e) Order. It is a significant new use to exceed the kilograms per day limit specified in the TSCA section 5(e) Order of the substances handled at processing and use sites.

(iii) Release to water. Requirements as specified in § 721.90(a)(4), (b)(4), and (c)(4) where N=8.

(b) Specific requirements. The provisions of subpart A of this part apply to this section except as modified by this paragraph (b).

(1) Recordkeeping. Recordkeeping requirements as specified in § 721.125(a) through (i) and (k) are applicable to manufacturers and processors of these substances.

(2) Limitations or revocation of certain notification requirements. The provisions of § 721.185 apply to this section.

(3) Determining whether a specific use is subject to this section. The provisions of § 721.1725(b)(1) apply to paragraph (a)(2)(ii) of this section.

§ 721.11216 Halogenated benzoic acid (generic).

(a) Chemical substance and significant new uses subject to reporting. (1) The chemical substances identified generically in the table 1 of this section are subject to reporting under this section for the significant new uses described in paragraph (a)(2) of this section.

Table 1 of § 721.11216—Halogenated benzoic acids
PMN No. | Chemical name (generic)
P-17-414 | Halogenated benzoic acid.
P-17-415 | Halogenated benzoic acid.
P-17-416 | Halogenated benzoic acid.
P-17-417 | Halogenated benzoic acid.
P-17-418 | Halogenated benzoic acid.
P-17-420 | Halogenated benzoic acid.
P-17-421 | Halogenated benzoic acid.
P-17-422 | Halogenated benzoic acid.
P-17-441 | Halogenated sodium benzoate.
P-17-442 | Halogenated sodium benzoate.
P-17-444 | Halogenated sodium benzoate.
P-17-445 | Halogenated sodium benzoate.
P-17-446 | Halogenated sodium benzoate.
P-17-447 | Halogenated sodium benzoate.
P-17-448 | Halogenated sodium benzoate.
P-17-449 | Halogenated sodium benzoate.
P-17-450 | Halogenated benzoic acid.

(2) The significant new uses are:

(i) Protection in the workplace. Requirements as specified in § 721.63(a)(1), (a)(2)(i) and (iv), (a)(3), (4), and (5), (a)(6)(v) and (vi) (particulate), (b) (concentration set at 1.0%), and (c). When determining which persons are reasonable likely to be exposed as required for § 721.63(a)(1) and (4), engineering control measures (e.g., enclosure or confinement of the operation, general and local ventilation) or administrative control measures (e.g., workplace policies and procedures) shall be considered and implemented to prevent exposures, where feasible. For purposes of § 721.63(a)(5), respirators must provide a National Institute for Occupational Safety and Health with assigned protection factor of at least 50, and respirators are only required for P-17-414 to P-17-418, P-17-420 to P-17-422, and P-17-450.

(A) As an alternative to the respirator requirements in paragraph (a)(2)(i) of this section, a manufacturer or processor may choose to follow the new chemical exposure limit (NCEL) provision listed in the TSCA section 5(e) Order for the substances. The NCEL is 0.0184 mg/m³ as an 8-hour time weighted average. Persons who wish to pursue NCELs as an alternative to § 721.63 respirator requirements may request to do so under § 721.30. Persons whose § 721.30 requests to use the NCELs approach are approved by EPA will be required to follow NCELs provisions comparable to those contained in the corresponding TSCA section 5(e) Order.

(B) [Reserved]

(ii) Hazard communication. Requirements as specified in § 721.72(a) through (e) (concentration set at 1.0%), (f), (g)(1)(i) through (iv), (vi), and (ix), (g)(2)(i) through (iii), (v), and (iv), (g)(3)(i) and (ii), and (g)(5). Alternative hazard and warning statements that meet the criteria of the Globally Harmonized System and OSHA Hazard Communication Standard may be used. For purposes of § 721.63(g)(2), use respiratory protection or maintain workplace airborne concentration at or below an 8-hour time-weighted average of 0.0184 mg/m³, and the statement is only required for P-17-414 to P-17-418, P-17-420 to P-17-422, and P-17-450.

(iii) Industrial, commercial, and consumer activities. Requirements as specified in § 721.80(q) and (t). It is a significant new use to use the substances other than for monitoring well performance. It is a significant new use to manufacture or process the substances without the engineering controls specified in the TSCA section 5(e) Order. It is a significant new use to exceed the kilograms per day limit specified in the TSCA section 5(e) Order of the substances handled at processing and use sites. It is a significant new use to use P-17-441 to 442 and P-17-444 to P-17-449 other than in a liquid formulation.

(iv) Release to water. Requirements as specified in § 721.90(a)(4), (b)(4), and (c)(4) where N=460.

(b) Specific requirements. The provisions of subpart A of this part apply to this section except as modified by this paragraph (b).

(1) Recordkeeping. Recordkeeping requirements as specified in § 721.125(a) through (i) and (k) are applicable to manufacturers and processors of these substances.

(2) Limitations or revocation of certain notification requirements. The provisions of § 721.185 apply to this section.

(3) Determining whether a specific use is subject to this section. The provisions of § 721.1725 (b)(1) apply to paragraph (a)(2)(iii) of this section.

§ 721.11217 Certain halogenated sodium benzoate salts.

(a) Chemical substance and significant new uses subject to reporting. (1) The chemical substances listed in table 1 of this section are subject to reporting under this section for the significant new uses described in paragraph (a)(2) of this section.

Table 1 of § 721.11217—Halogenated Sodium Benzoate Salts
PMN No. | CAS No. | Chemical name
P-17-424 | 1708942-16-8 | Benzoic acid, 2-chloro-3-methyl-, sodium salt (1:1).
P-17-425 | 1708942-17-9 | Benzoic acid, 3-chloro-2-methyl-, sodium salt (1:1).
P-17-426 | 1708942-15-7 | Benzoic acid, 3-chloro-4-methyl-, sodium salt (1:1).
P-17-427 | 118537-88-5 | Benzoic acid, 2-chloro-5-methyl-, sodium salt (1:1).
P-17-428 | 203261-42-1 | Benzoic acid, 4-chloro-2-methyl-, sodium salt (1:1).
P-17-429 | 1708942-24-8 | Benzoic acid, 3-fluoro-2-methyl-, sodium salt (1:1).
P-17-430 | 1805805-74-6 | Benzoic acid, 3-fluoro-4-methyl-, sodium salt (1:1).
P-17-431 | 1708942-23-7 | Benzoic acid, 4-fluoro-2-methyl-, sodium salt (1:1).
P-17-432 | 1708942-19-1 | Benzoic acid, 2-fluoro-4-methyl-, sodium salt (1:1).
P-17-433 | 1708942-18-0 | Benzoic acid, 2-fluoro-3-methyl-, sodium salt (1:1).
P-17-435 | 1701446-41-4 | Benzoic acid, 2-fluoro-3-(trifluoromethyl)-, sodium salt (1:1).
P-17-436 | 1708942-20-4 | Benzoic acid, 2-fluoro-4-(trifluoromethyl)-, sodium salt (1:1).
P-17-437 | 1708942-21-5 | Benzoic acid, 2-fluoro-6-(trifluoromethyl)-, sodium salt (1:1).
P-17-438 | 1535169-59-5 | Benzoic acid, 3-fluoro-5-(trifluoromethyl)-, sodium salt (1:1).
P-17-439 | 1701446-39-0 | Benzoic acid, 4-fluoro-3-(trifluoromethyl)-, sodium salt (1:1).
P-17-440 | 1708942-22-6 | Benzoic acid, 4-fluoro-2-(trifluoromethyl)-, sodium salt (1:1).

(2) The significant new uses are:

(i) Protection in the workplace. Requirements as specified in § 721.63(a)(1), (a)(2)(i) and (iv), (a)(3) and (a)(6)(v) and (vi) (particulate), (b)(concentration set at 1.0%), and (c). When determining which persons are reasonable likely to be exposed as required for § 721.63(a)(1), engineering control measures (e.g., enclosure or confinement of the operation, general and local ventilation) or administrative control measures (e.g., workplace policies and procedures) shall be considered and implemented to prevent exposures, where feasible.

(ii) Hazard communication. Requirements as specified in § 721.72(a) through (e) (concentration set at 1.0%), (f), (g)(1)(i), (iii), (iv), (vi), and (ix), (g)(2)(i) through (iii) and (v), (g)(3)(i) and (ii), and (g)(5). Alternative hazard and warning statements that meet the criteria of the Globally Harmonized System and OSHA Hazard Communication Standard may be used.

(iii) Industrial, commercial, and consumer activities. Requirements as specified in § 721.80(f). It is a significant new use to handle at a processing or use site more than 50 kilograms per day per site in aggregate of the PMN substances for solid formulations that generate a dust. It is a significant new use to use the substances other than as tracers in aqueous solution, in solid blends with polymers, or in a solid proppant bead forms to measure flow in deep oil-bearing or gas-bearing strata.

(iv) Release to water. Requirements as specified in § 721.90(a)(4), (b)(4), and (c)(4) where N=300.

(b) Specific requirements. The provisions of subpart A of this part apply to this section except as modified by this paragraph (b).

(1) Recordkeeping. Recordkeeping requirements as specified in § 721.125(a) through (i) and (k) are applicable to manufacturers and processors of these substances.

(2) Limitations or revocation of certain notification requirements. The provisions of § 721.185 apply to this section.

§ 721.11218 Benzoic acid, 2, 3, 6-trifluoro, sodium salt (1:1).

(a) Chemical substance and significant new uses subject to reporting. (1) The chemical substance identified as benzoic acid, 2, 3, 6-trifluoro, sodium salt (1:1) (PMNs P-17-434 and P-17-443, CAS No. 1803845-07-9) is subject to reporting under this section for the significant new uses described in paragraph (a)(2) of this section.

(2) The significant new uses are:

(i) Protection in the workplace. Requirements as specified in § 721.63(a)(1), (a)(2)(i) and (iv), (a)(3) and (a)(6)(v) and (vi) (particulate), (b)(concentration set at 1.0%), and (c). When determining which persons are reasonable likely to be exposed as required for § 721.63(a)(1), engineering control measures (e.g., enclosure or confinement of the operation, general and local ventilation) or administrative control measures (e.g., workplace policies and procedures) shall be considered and implemented to prevent exposures, where feasible.

(ii) Hazard communication. Requirements as specified in § 721.72(a) through (e) (concentration set at 1.0%), (f), (g)(1)(i), (iii), (iv), (vi), and (ix), (g)(2)(i) through (iii) and (v), and (g)(5). Alternative hazard and warning statements that meet the criteria of the Globally Harmonized System and OSHA Hazard Communication Standard may be used.

(iii) Industrial, commercial, and consumer activities. Requirements as specified in § 721.80(q). It is a significant new use to manufacture the substance other than in a liquid formulation and without the confidential engineering controls specified in the TSCA section 5(e) Order for P-17-443. It is a significant new use new use to use the substance other than as a tracer in aqueous solution, a solid blend with polymer, or a solid proppant bead form to measure flow in deep oil-bearing or gas-bearing strata or for the confidential use specified in the Order for P-17-443.

(b) Specific requirements. The provisions of subpart A of this part apply to this section except as modified by this paragraph (b)

(1) Recordkeeping. Recordkeeping requirements as specified in § 721.125(a) through (i) are applicable to manufacturers and processors of this substance.

(2) Limitations or revocation of certain notification requirements. The provisions of § 721.185 apply to this section.

(3) Determining whether a specific use is subject to this section. The provisions of § 721.1725 (b)(1) apply to paragraph (a)(2)(iii) of this section.

§ 721.11219 Fatty acids, diesters with dihydroxyalkane, fatty acids, esters with dihydroxyalkane (generic).

(a) Chemical substances and significant new uses subject to reporting. (1) The chemical substances identified generically as fatty acids, diesters with dihydroxyalkane, fatty acids, esters with dihydroxyalkane (PMN P-18-3, chemical A and P-18-3, chemical B) are subject to reporting under this section for the significant new uses described in paragraph (a)(2) of this section. The requirements of this section do not apply to quantities of the substances after they have been reacted (cured).

(2) The significant new uses are:

(i) Protection in the workplace. Requirements as specified in § 721.63(a)(1), (a)(2)(i), (iii), and (iv), (a)(3) and (a)(6)(v) and (vi) (particulate), (b)(concentration set at 1.0%), and (c). When determining which persons are reasonable likely to be exposed as required for § 721.63(a)(1), engineering control measures (e.g., enclosure or confinement of the operation, general and local ventilation) or administrative control measures (e.g., workplace policies and procedures) shall be considered and implemented to prevent exposures, where feasible.

(ii) Hazard communication. Requirements as specified in § 721.72(a) through (e) (concentration set at 1.0%), (f), (g)(1) (skin and eye irritation and sensitization), (g)(2)(i) through (iii), and (v), and (g)(5). Alternative hazard and warning statements that meet the criteria of the Globally Harmonized System and OSHA Hazard Communication Standard may be used.

(b) Specific requirements. The provisions of subpart A of this part apply to this section except as modified by this paragraph (b).

(1) Recordkeeping. Recordkeeping requirements as specified in § 721.125(a) through (h) are applicable to manufacturers and processors of these substances.

(2) Limitations or revocation of certain notification requirements. The provisions of § 721.185 apply to this section.

§ 721.11220 Substituted carbomonocycle, polymer with halo substituted heteromonocycle and polyoxyalkylene polymer with alkylenebis[isocyanatocarbomonocycle] bis (carbomonocycledicarboxylate), reaction products with alkylamines, hydrolyzed (generic).

(a) Chemical substance and significant new uses subject to reporting. (1) The chemical substance identified generically as substituted carbomonocycle, polymer with halo substituted heteromonocycle and polyoxyalkylene polymer with alkylenebis[isocyanatocarbomonocycle] bis (carbomonocycledicarboxylate), reaction products with alkylamines, hydrolyzed (PMN P-18-22) is subject to reporting under this section for the significant new uses described in paragraph (a)(2) of this section. The requirements of this section do not apply to quantities of the substance after they have been completely reacted (cured).

(2) The significant new uses are:

(i) Protection in the workplace. Requirements as specified in § 721.63(a)(1), (a)(2)(i), (iii), and (iv), (a)(3), (4), (5), and (6) (particulate), and (c). When determining which persons are reasonable likely to be exposed as required for § 721.63(a)(1) and (4), engineering control measures (e.g., enclosure or confinement of the operation, general and local ventilation) or administrative control measures (e.g., workplace policies and procedures) shall be considered and implemented to prevent exposures, where feasible. For purposes of § 721.63(a)(5), respirators must provide a National Institute for Occupational Safety and Health with assigned protection factor of at least 50.

(ii) Hazard communication. Requirements as specified in § 721.72(a) through (d), (f), (g)(1)(ii) (irritation to skin, eyes, lungs, and mucous membranes), (g)(2)(i) through (v) (avoid eye contact), and (g)(5). Alternative hazard and warning statements that meet the criteria of the Globally Harmonized System and OSHA Hazard Communication Standard may be used.

(iii) Industrial, commercial, and consumer activities. Requirements as specified in § 721.80(f). It is a significant new use to use the substance other than as primer coating used for corrosion protection. It is a significant new use to import the substance with an average molecular weight greater less than 1026 daltons, and with low weight fractions greater than 15.3% less than 500 daltons and 25% less than 1000 daltons.

(b) Specific requirements. The provisions of subpart A of this part apply to this section except as modified by this paragraph (b).

(1) Recordkeeping. Recordkeeping requirements as specified in § 721.125(a) through (i) are applicable to manufacturers and processors of this substance.

(2) Limitations or revocation of certain notification requirements. The provisions of § 721.185 apply to this section.

[FR Doc. 2019-26227 Filed 1-8-20; 8:45 am]

BILLING CODE 6560-50-P